DEPARTMENT OF ENERGY

Federal Energy Regulatory Commission

[Docket No. EL15-55-000]

Modesto Irrigation District Turlock Irrigation District v. Pacific Gas and Electric Company; Notice of Complaint

Take notice that on March 18, 2015, pursuant to section 202, 206, 306 and 309 of the Federal Power Act, 16 U.S.C. 824(a), 825(e), 825(e), 825(h) and rule 206 of the Federal Energy Regulatory Commission's (Commission) Rules of Practice and Procedure, 18 CFR 385.206 Modesto Irrigation District (Mid) and the Turlock Irrigation District (TID) (collectively, Complainants) filed a formal complaint against the Pacific Gas and Electric Company (PG&E or Respondent), alleging that PG&E has breached and anticipatorily breached each Complainants' respective Interconnection Agreements on file with the Commission, in violation of the Federal Power Act, by: (1) Failing to fully and properly notify the Complainants of modifications to Respondent's Remedial Action Scheme (RAS); (2) refusing and failing to study the potential Adverse Impacts arising from these RAS modifications; and (3) repudiating Respondent's obligation to mitigate or compensate for adverse impacts arising from such RAS modifications.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on April 7, 2015.

Dated: March 19, 2015.
Kimberly D. Bose,
Secretary.

[FR Doc. 2015-07144 Filed 3-27-15; 8:45 am]

BILLING CODE 6717-01-P